Title 3—

The President

Proclamation 10829 of October 3, 2024

National Manufacturing Day, 2024

By the President of the United States of America

A Proclamation

American workers and the unions who fight for them represent the best of our country. They help power our economy and strengthen our middle class. On National Manufacturing Day, we celebrate the ingenuity, grit, drive, and determination of the American worker. We thank them for their contributions, and we recommit to investing in their productivity and success.

There have always been competing visions for the future of America. Some envision a future in which the failed trickle-down policies that hurt working families for more than 40 years are continued. When I think about our future, I see an America where we grow the economy from the middle out and the bottom up—not the top down. I see an America where working people finally have a fair shot. Above all, I see a future that is made right here in America.

That is why my Administration has invested in American manufacturing to restore the backbone of our Nation: the middle class. Together, we are doing what has always worked best in this country—investing in all of America and in all Americans. My Investing in America agenda—including my Bipartisan Infrastructure Law, CHIPS and Science Act, and Inflation Reduction Act—is revitalizing American manufacturing. So far, we have attracted over $910 billion in private sector investment in manufacturing and clean energy nationwide and seen spending on factory construction soar to new records, roughly triple the pre-pandemic average. These investments are helping create hundreds of thousands of jobs—including over 700,000 manufacturing jobs—building new semiconductor fabs, electric vehicle and battery factories, and so much more, here in America. And we are working with employers, unions, community colleges, high schools, and other partners to ensure American workers are trained for the good manufacturing jobs we are generating.

We have also made sure that Federal funds support American manufacturing. “Buy American” has been the law of the land since the 1930s. Past administrations said a lot but did not do a lot. On my watch, Federal projects have been made with American products and built by American workers. I fought for the passage of the “Build America, Buy America Act,” which established domestic content preferences in Federal infrastructure spending, as part of the Bipartisan Infrastructure Law. I signed the “Federal Research and Development in Support of Domestic Manufacturing and United States Jobs” Executive Order, directing Federal agencies to prioritize domestic manufacturing when it comes to research, development, innovation, and bringing inventions to market. My Administration also made the strongest changes to Buy American rules in nearly seven decades by increasing the domestic content threshold for Federal procurement from 55 percent to 65 percent in 2024. I also announced new requirements for lumber, glass, fiber optic cables, and other construction materials used in Federal infrastructure projects to be made in America. And we will keep working to ensure that American taxpayer dollars are invested in American workers.

Growing up in Scranton, Pennsylvania, I learned a basic value set—money does not determine your worth, and all anyone wants is a fair shot. When I look at the economy, I see it through the eyes of Scranton. That is why I came into office determined to write a new chapter in our American comeback story—one where we can take pride in knowing that we can still get big things done in this great Nation.

During National Manufacturing Day, may we rededicate ourselves to writing that story by making the phrase “Made in America” not just a slogan but a reality.

NOW, THEREFORE, I, JOSEPH R. BIDEN JR., President of the United States of America, by virtue of the authority vested in me by the Constitution and the laws of the United States, do hereby proclaim October 4, 2024, as National Manufacturing Day. I thank our manufacturing workers for all that they do to strengthen our Nation, encourage all Americans to look for ways to get involved in their communities, and call on everyone to join me in participating in National Manufacturing Day and, most importantly, buying American.

IN WITNESS WHEREOF, I have hereunto set my hand this third day of October, in the year of our Lord two thousand twenty-four, and of the Independence of the United States of America the two hundred and forty-ninth.

[FR Doc. 2024-23399

Filed 10-7-24; 8:45 am]

Billing code 3395-F4-P